DEPARTMENT OF ENERGY

Federal Energy Regulatory Commission

Combined Notice of Filings #1

April 8, 2008.

Take notice that the Commission has received the following Natural Gas Pipeline Rate and Refund Report filings:

Docket Numbers: RP96-320-084.

Applicants: Gulf South Pipeline Company, LP.

Description: Gulf South Pipeline Company, LP submits an Amendment to a Negotiated Rate Letter Agreement executed by Gulf South and one of its customers in relation to the East Texas to Mississippi Expansion Project etc.

Filed Date: 03/28/2008.

Accession Number: 20080403-0255.

Comment Date: 5 p.m. Eastern Time on Wednesday, April 9, 2008.

Docket Numbers: RP97-13-032.

Applicants: East Tennessee Natural Gas, LLC.

Description: East Tennessee Natural Gas LLC submits Original Sheet 30 et al. to FERC Gas Tariff, Third Revised Volume 1, to become effective 4/4/08.

Filed Date: 04/04/2008.

Accession Number: 20080407-0056.

Comment Date: 5 p.m. Eastern Time on Wednesday, April 16, 2008.

Docket Numbers: RP99-301-207.

Applicants: ANR Pipeline Company.

Description: ANR Pipeline Company submits Rate Schedule FTS-1 and Gathering negotiated rate agreement between ANR and Eagle Energy Partners I, LP.

Filed Date: 04/03/2008.

Accession Number: 20080404-0400.

Comment Date: 5 p.m. Eastern Time on Tuesday, April 15, 2008.

Docket Numbers: RP99-480-020.

Applicants: Texas Eastern Transmission LP.

Description: Texas Eastern Transmission LP submits Original Sheet 118 et al. to FERC Gas Tariff, Seventh Revised Volume 1.

Filed Date: 04/01/2008.

Accession Number: 20080403-0044.

Comment Date: 5 p.m. Eastern Time on Monday, April 14, 2008.

Docket Numbers: RP02-534-007.

Applicants: Guardian Pipeline, L.L.C.

Description: Guardian Pipeline, LLC submits Original Sheet 8 et al. to its FERC Gas Tariff, Original Volume 1, to be effective April 4, 2008.

Filed Date: 04/03/2008.

Accession Number: 20080404-0399.

Comment Date: 5 p.m. Eastern Time on Tuesday, April 15, 2008.

Docket Numbers: RP04-42-003.

Applicants: Southern Natural Gas Company.

Description: Southern Natural Gas Company submits Fifth Revised Sheet 107 et al. to FERC Gas Tariff, Seventh Revised Volume 1, to become effective 5/5/08.

Filed Date: 04/04/2008.

Accession Number: 20080407-0055.

Comment Date: 5 p.m. Eastern Time on Wednesday, April 16, 2008.

Docket Numbers: RP05-157-012.

Applicants: Saltville Gas Storage Company L.L.C.

Description: Saltville Gas Storage Company LLC submits Original Sheet 22 et al. as part of its FERC Gas Tariff, Original Volume 1, to become effective 4/4/08.

Filed Date: 04/04/2008.

Accession Number: 20080407-0054.

Comment Date: 5 p.m. Eastern Time on Wednesday, April 16, 2008.

Docket Numbers: RP07-666-002.

Applicants: Colorado Interstate Gas Company.

Description: Colorado Interstate Gas Company submits Fifth Revised Sheet 378 et al. to FERC Gas Tariff, First Revised Volume 1, to become effective 3/1/08.

Filed Date: 04/04/2008.

Accession Number: 20080407-0053.

Comment Date: 5 p.m. Eastern Time on Wednesday, April 16, 2008.

Docket Numbers: RP08-124-002.

Applicants: Columbia Gulf Transmission Company.

Description: Columbia Gulf Transmission Company submits Tenth Revised Sheet 130 to its FERC Gas Tariff, Second Revised Volume 1 to be effective date of June 1, 2008.

Filed Date: 04/04/2008.

Accession Number: 20080404-0243.

Comment Date: 5 p.m. Eastern Time on Wednesday, April 16, 2008.

Docket Numbers: RP08-127-002.

Applicants: Columbia Gas Transmission Corporation.

Description: Columbia Gas Transmission Corp submits Tenth Revised Sheet 268 et al. to its FERC Gas Tariff, Second Revised Volume 1 to be effective date of June 1, 2008.

Filed Date: 04/04/2008.

Accession Number: 20080404-0244.

Comment Date: 5 p.m. Eastern Time on Wednesday, April 16, 2008.

Docket Numbers: RP08-300-000.

Applicants: Kern River Gas Transmission Company.

Description: Kern River Gas Transmission Co submits a report supporting its gas compressor fuel factors and lost and unaccounted-for gas factors for calendar year 2007.

Filed Date: 03/31/2008.

Accession Number: 20080403-0211.

Comment Date: 5 p.m. Eastern Time on Monday, April 14, 2008.

Docket Numbers: RP08-304-001.

Applicants: Freebird Gas Storage, LLC.

Description: Freebird Gas Storage LLC submits Original Sheet 3 et al. to FERC Gas Tariff, First Revised Volume 1, to become effective 5/1/08.

Filed Date: 04/04/2008.

Accession Number: 20080407-0052.

Comment Date: 5 p.m. Eastern Time on Wednesday, April 16, 2008.

Docket Numbers: RP08-306-000.

Applicants: Portland Natural Gas Transmission System.

Description: Portland Natural Gas Transmission System's CD containing its notice of rate change.

Filed Date: 04/01/2008.

Accession Number: 20080401-4005.

Comment Date: 5 p.m. Eastern Time on Monday, April 14, 2008.

Docket Numbers: RP08-307-000.

Applicants: Northern Natural Gas Company.

Description: Northern Natural Gas Company submits Original Sheet 55A et al. to FERC Gas Tariff, Fifth Revised Volume 1, to become effective 6/1/08.

Filed Date: 04/03/2008.

Accession Number: 20080407-0010.

Comment Date: 5 p.m. Eastern Time on Tuesday, April 15, 2008.

Docket Numbers: RP08-308-000.

Applicants: Crossroads Pipeline Company.

Description: Cross Pipeline Company submits Third Revised Sheet 78 et al. to FERC Gas Tariff, First Revised Volume 1, to become effective 5/3/08.

Filed Date: 04/03/2008.

Accession Number: 20080407-0009.

Comment Date: 5 p.m. Eastern Time on Tuesday, April 15, 2008.

Docket Numbers: RP08-309-000.

Applicants: Northern Border Pipeline Company.

Description: Northern Border Pipeline Company submits Fifth Revised Sheet 102A et al. to FERC Gas Tariff, First Revised Volume 1, to become effective 5/5/08.

Filed Date: 04/03/2008.

Accession Number: 20080407-0008.

Comment Date: 5 p.m. Eastern Time on Tuesday, April 15, 2008.

Docket Numbers: RP08-310-000.

Applicants: Wyoming Interstate Company, Ltd.

Description: Wyoming Interstate Company Ltd submits Fifth Revised Sheet 11A et al. to Second Revised Volume 2, to become effective 11/17/07.

Filed Date: 04/04/2008.

Accession Number: 20080407-0051.

Comment Date: 5 p.m. Eastern Time on Wednesday, April 16, 2008.

Docket Numbers: CP07-411-001.

Applicants: Texas Eastern Transmission, LP.

Description: Texas Eastern Transmission, LP submits Fourth Revised Sheet No. 51C to FERC Gas Tariff, Seventh Revised Volume No. 1, to become effective 5/1/08.

Filed Date: 04/01/2008.

Accession Number: 20080403-0252.

Comment Date: 5 p.m. Eastern Time on Monday, April 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlineSupport@ferc.gov. or call (866) 208-3676 (toll free). For TTY, call (202) 502-8659.

Nathaniel J. Davis, Sr.,
Deputy Secretary.

[FR Doc. E8-7942 Filed 4-14-08; 8:45 am]

BILLING CODE 6717-01-P